DEPARTMENT OF COMMERCE

National Oceanic and Atmospheric Administration

[I.D. 080906D]

Western Pacific Fishery Management Council; Public Meetings

AGENCY: National Marine Fisheries Service (NMFS), National Oceanic and Atmospheric Administration (NOAA), Commerce.

ACTION: Notice of public meeting and public hearing.

SUMMARY: The Western Pacific Fishery Management Council (Council) will hold its 134th meeting to consider and take action on pending recommendations regarding fishing in the Northwestern Hawaiian Islands (NWHI) commensurate with the provisions of Proclamation 8031 which established the Northwestern Hawaiian Islands Marine National Monument. The Council will also hold a public hearing during this 134th Council meeting.

DATES: The 134th Council meeting and public hearing will be held at 2 p.m. (Hawaii Standard Time) on Wednesday, August 30, 2006. For specific dates, times and locations of the public hearing, and the agenda for the 134th Council meeting, see SUPPLEMENTARY INFORMATION.

ADDRESSES: The 134th Council meeting and public hearing will be held at the Council's office, 1164 Bishop Street, Suite 1400, Honolulu, HI 96813. For participants residing in American Samoa, the Northern Mariana Islands, Hawaii and the continental United States, the 134th Council meeting telephone conference call-in-number is: 1-888-482-3560; Access Code: 522-8220. For Guam and international participants, the call-in-number is: 1-647-723-3959; Access Code: 522-8220.

FOR FURTHER INFORMATION CONTACT: Kitty M. Simonds, Executive Director; telephone: (808) 522-8220; fax: (808) 522-8226.

SUPPLEMENTARY INFORMATION:

Background Information

On June 15, 2006, President George W. Bush signed Presidential Proclamation No. 8031 establishing the Northwestern Hawaiian Islands Marine National Monument (NWHI monument). The proclamation set apart and reserved the Northwestern Hawaiian Islands for the purpose of protecting the historic objects, landmarks, prehistoric structures and other objects of historic or scientific interest that are situated upon lands owned and controlled by the Federal Government of the United States. Proclamation No. 8031 directs the Secretary of Commerce and the Secretary of the Interior (the Secretaries) to prohibit access into the NWHI monument unless authorized, and limit or regulate virtually all activities through a permit and zoning system among other measures.

In establishing the NWHI monument, Proclamation No. 8031 assigns primary management responsibility of marine areas of the NWHI monument to the Secretary of Commerce, NOAA, in consultation with the Secretary of the Interior. The proclamation assigns the Secretary of the Interior, through the U.S. Fish and Wildlife Service (USFWS) with sole responsibility for management of the areas of the monument that overlay the Midway Atoll National Wildlife Refuge, the Battle of Midway National Memorial and the Hawaiian Islands National Wildlife Refuge, in consultation with the Secretary of Commerce. Proclamation No. 8031 also requires the Secretary of Commerce to manage the NWHI monument in consultation with the Secretary of the Interior and the State of Hawaii and directs the Secretaries to promulgate any additional regulations needed for the proper care and management of the monument objects identified above, to the extent authorized by law.

At this 134th meeting, the Council will consider and take action on pending recommendations regarding fishing in the Northwestern Hawaiian Islands commensurate with the provisions of Proclamation 8031 which established the NWHI monument.

134th Council Meeting Agenda

1. Introductions

2. Approval of Agenda

3. Implementation of Fishing Regulations for the NWHI Monument

4. Public Hearing

5. Council Discussion and Action

6. Other Business

Although non-emergency issues not contained in this agenda may come before the Council for discussion, those issues may not be the subject of formal Council action during its 134th meeting. Council action will be restricted to those issues listed in this document and any issue arising after publication of this document that requires emergency action under section 305(c) of the Magnuson-Stevens Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 9, 2006.
Tracey L. Thompson,
Acting Director, Office of Sustainable Fisheries, National Marine Fisheries Service.

[FR Doc. E6-13307 Filed 8-14-06; 8:45 am]

BILLING CODE 3510-22-S